DEPARTMENT OF LABOR

Mine Safety and Health Administration

Petitions for Modification

The following parties have filed petitions to modify the application of existing safety standards under section 101(c) of the Federal Mine Safety and Health Act of 1977.

1. Kingwood Mining Company, LLC

[Docket No. M-2005-062-C]

Kingwood Mining Company, LLC, Route 1 Box 294C, Newburg, West Virginia 26410 has filed a petition to modify the application of 30 CFR 75.364(b)(1) (Weekly examination) to its Whitetail K-Mine (MSHA I.D. No. 46-08751) located in Preston County, West Virginia. The petitioner requests a modification of the existing standard to permit monitoring stations to be established for the left side entries (looking inby) from the belt entry over of South Mains #2 at #8 crosscut to South Mains #4 at #9 crosscut due to deteriorating roof conditions. The petitioner proposes to establish monitoring stations (MS-S1, S2, S3, & S4) at inlet entries (MS-S3 and S4) at South #4 between #9-#10 crosscut and the outlet entries (MS-S1 and S2) at South #2 between #6-#7 crosscut. The petitioner will have a certified person examine the monitoring stations on a weekly basis for air quantity, quality, and direction, and record the results of the examination in a book. The petitioner will also examine the stopping line between the belt entry and the intake air entry area in question from the South Mains #2 at #4 crosscut to South Mains #4 at #9 crosscut each production day for integrity, and record the results in the daily belt examiners book. The petitioner asserts that the proposed alternative method would provide at least the same measure of protection as the existing standard.

2. Mach Mining, LLC

[Docket No. M-2005-063-C]

Mach Mining, LLC, P.O. Box 300, Johnston City, Illinois 62951 has filed a petition to modify the application of 30 CFR 75.1909(b)(6) (Nonpermissible diesel-powered equipment; design and performance requirements) to its Mach #1 Mine (MSHA I.D. No. 11-03141) located in Williamson County, Illinois. The petitioner proposes to operate the Getman Roadbuilder as it was originally designed without front brakes. The petitioner will provide training to the grader operators on lowering the moldboard for additional stopping capability in emergency situations; train operators to recognize the appropriate speeds to use on different roadway conditions; and limit the maximum speed of the Roadbuilder to 10 miles per hour. The petitioner asserts that the proposed alternative method would provide at least the same measure of protection as the existing standard.

Request for Comments

Persons interested in these petitions are encouraged to submit comments via Federal eRulemaking Portal: http://www.regulations.gov; E-mail: zzMSHA-Comments@dol.gov; Fax: (202) 693-9441; or Regular Mail/Hand Delivery/Courier: Mine Safety and Health Administration, Office of Standards, Regulations, and Variances, 1100 Wilson Boulevard, Room 2350, Arlington, Virginia 22209. All comments must be postmarked or received in that office on or before October 20, 2005. Copies of these petitions are available for inspection at that address.

Dated at Arlington, Virginia, this 15th day of September 2005.
Rebecca J. Smith,
Acting Director, Office of Standards, Regulations, and Variances.

[FR Doc. 05-18738 Filed 9-19-05; 8:45 am]

BILLING CODE 4510-43-P